DEPARTMENT OF DEFENSE

Defense Acquisition Regulations System

[Docket DARS-2018-0003; OMB Control Number 0704-0533]

Information Collection Requirement; Defense Federal Acquisition Regulation Supplement; DFARS Subpart 249, Termination of Contracts, and a Related Clause at DFARS 252.249-7002

AGENCY: Defense Acquisition Regulations System, Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: Whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection requirement for use through July 31, 2018. DoD proposes that OMB extend its approval for use for three additional years beyond the current expiration date.

DATES: DoD will consider all comments received by April 9, 2018.

ADDRESSES: You may submit comments, identified by OMB Control Number 0704-0533, using any of the following methods:

○ Federal eRulemaking Portal: http://www.regulations.gov. Follow the instructions for submitting comments.

○ Email: osd.dfars@mail.mil. Include OMB Control Number 0704-0533 in the subject line of the message.

○ Fax: 571-372-6094.

○ Mail: Defense Acquisition Regulations System, Attn: Ms. Amy Williams, OUSD(AT&L)DPAP/DARS, Room 3B941, 3060 Defense Pentagon, Washington, DC 20301-3060.

Comments received generally will be posted without change to http://www.regulations.gov, including any personal information provided.

Instructions: Search for “Docket Number: DARS-2018-0003.” Select “Comment Now” and follow the instructions provided to submit a comment. All submissions received must include the agency name and docket number for this notice. Comments received generally will be posted without change to http://www.regulations.gov, including any personal information provided. To confirm receipt of your comment(s), please check www.regulations.gov, approximately two to three days after submission to verify posting (except allow 30 days for posting of comments submitted by mail).

FOR FURTHER INFORMATION CONTACT: Ms. Amy Williams, 571-372-6106.

SUPPLEMENTARY INFORMATION:

Title and OMB Number: Defense Federal Acquisition Regulation Supplement (DFARS) Part 249, Termination of Contracts, and a Related Clause at DFARS 252.249-7002, Notification of Anticipated Contract termination or Reduction; OMB Control Number 0704-0533.

Needs and Uses: Defense Federal Acquisition Regulation Supplement (DFARS) clause 252.249-7002, Notification of Anticipated Contract termination or Reduction, is used in all contracts under a major defense program. The purpose of this requirement is to help establish benefit eligibility under the Job Training Partnership Act (29 U.S.C. 1661 and 1662) for employees of DoD contractors and subcontractors adversely affected by contract termination or substantial reductions under major defense programs.

Type of Collection: Renewal of a currently approved collection.

Obligation to Respond: Required to obtain or retain benefits.

Affected Public: Businesses or other for-profit and not-for-profit institutions.

Number of Respondents: 42.

Responses per Respondent: 6.19, approximately.

Annual Responses: 260.

Average Burden per Response: .74 hours.

Annual Burden Hours: 193.

Frequency: On Occasion.

Summary of Information Collection

DFARS Clause 252.249-7002, Notification of Anticipated Contract termination or Reduction, is used in all contracts under a major defense program. This clause requires contractors, within 60 days after receipt of notice from the contracting officer of anticipated termination or substantial reduction, to provide notice of the anticipated termination or substantial reduction to first-tier subcontractors with a subcontract of $700,000 or more and requires flowdown to lower-tier subcontractors with a subcontract of $150,000 or more.

Jennifer L. Hawes,
Regulatory Control Officer, Defense Acquisition Regulations System.

[FR Doc. 2018-02449 Filed 2-6-18; 8:45 am]

BILLING CODE 5001-06-P